DEPARTMENT OF TRANSPORTATION

Maritime Administration

[Docket No. MARAD-2002-12529]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before August 20, 2002.

FOR FURTHER INFORMATION CONTACT: Elizabeth Gearhart, Maritime Administration, 400 Seventh St., SW., Washington, DC 20590. Telephone: 202-366-1867; FAX: 202-366-7901 or E-MAIL: elizabeth.gearhart@marad.dot.gov.

Copies of this collection can also be obtained from that office.

SUPPLEMENTARY INFORMATION:

Title of Collection: Shipbuilding Orderbook and Shipyard Employment.

Type of Request: Extension of currently approved information collection.

OMB Control Number: 2133-0029.

Form Numbers: MA-832.

Expiration Date of Approval: December 31, 2002.

Summary of Collection of Information: In compliance with the Merchant Marine Act of 1936, as amended, MARAD conducts this survey to obtain information from the shipbuilding and ship repair industry to be used primarily to determine if an adequate mobilization base exists for national defense and for use in a national emergency.

Need and Use of the Information: The collection of information is necessary in order for MARAD to perform and carry out its duties required by Sections 210 and 211 of the Merchant Marine Act of 1936.

Description of Respondents: Owners of U.S. shipyards who agree to complete the requested information.

Annual Responses: 800 responses.

Annual Burden: 400 hours.

Comments: Comments should refer to the docket number that appears at the top of this document. Written comments may be submitted to the Docket Clerk, U.S. DOT Dockets, Room PL-401, 400 Seventh Street, SW, Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

Dated: June 18, 2002.
By Order of the Maritime Administrator.
Joel C. Richard,
Secretary, Maritime Administration.

[FR Doc. 02-15733 Filed 6-20-02; 8:45 am]

BILLING CODE 4910-81-P